DEPARTMENT OF DEFENSE

Office of the Secretary

[Transmittal No. 19-05]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-05 with attached Policy Justification.

Dated: March 8, 2019.
Aaron T. Siegel,
Alternate OSD Federal Register Liaison Officer, Department of Defense.

Transmittal No. 19-05

Notice of Proposed Issuance of Letter of Offer Pursuant to Section 36(b)(1) of the Arms Export Control Act, as amended

(i) Prospective Purchaser: Government of Israel

(ii) Total Estimated Value:

Major Defense Equipment * | $ 0 million
Other | $238 million
TOTAL | $238 million

(iii) Description and Quantity or Quantities of Articles or Services under Consideration for Purchase:

Major Defense Equipment (MDE): None

Non-MDE:

Two hundred forty (240) Namer Armored Personnel Carrier (APC-MT883) Power Packs, Less Transmission (NPPLT) in Full Configuration

Thirty (30) Namer Armored Personnel Carrier (APC-MT883) Power Pack, Less Transmission (NPPLT) in Light Configuration

One hundred seventy-nine (179) Control and Diagnostic Systems (CDS)

Also included is an Integrated Logistics Support package that includes: special tools for C-Level maintenance; oil spray nozzle test bench; preservation and packaging; containers; configuration management; technical manuals, spare parts catalogs, other documentation and publications, and other related elements of logistics and program support.

(iv) Military Department: Army (IS-B-ZZD)

(v) Prior Related Cases, if any: None

(vi) Sales Commission, Fee, etc., Paid, Offered, or Agreed to be Paid: None

(vii) Sensitivity of Technology Contained in the Defense Article or Defense Services Proposed to be Sold: None

(viii) Date Report Delivered to Congress: February 12, 2019

* As defined in Section 47(6) of the Arms Export Control Act.

POLICY JUSTIFICATION

Israel - Namer Armored Personnel Carrier (APC-MT883) Power Packs Less Transmissions (NPPLT) and Integrated Logistics Support

The Government of Israel has requested to buy two hundred forty (240) Namer Armored Personnel Carrier (APC-MT883) Power Packs, Less Transmission (NPPLT) in Full Configuration; thirty (30) Namer Armored Personnel Carrier (APC-MT883) Power Packs, Less Transmission (NPPLT) in Light Configuration; and one hundred seventy-nine (179) Control and Diagnostic Systems (CDS). Also included is an Integrated Logistics Support package that includes: special tools for C-Level maintenance; oil spray nozzle test bench; preservation and packaging; containers; configuration management; technical manuals, spare parts catalogs, other documentation and publications, and other related elements of logistics and program support. The total estimated program cost is $238 million.

The United States is committed to the security of Israel, and it is vital to U.S. national interests to assist Israel to develop and maintain a strong and ready self-defense capability. This proposed sale is consistent with those objectives.

The proposed sale will improve Israel's capability to meet current and future threats in the defense of its borders. These upgraded power packs will be used on their Armored Personnel Carriers (APC-MT883) that were fielded in 2008. Israel will have no difficulty absorbing this equipment into its armed forces.

The proposed equipment and support will not alter the basic military balance in the region.

The prime contractor will be MTU America, Novi, MI. MTU America is the North American subsidiary of Rolls Royce Power Systems. There are no known offset agreements proposed in connection with this potential sale.

Implementation of this proposed sale will not require the assignment of any additional U.S. Government or contractor representatives to Israel.

There will be no adverse impact on U.S. defense readiness as a result of this proposed sale.

[FR Doc. 2019-04638 Filed 3-12-19; 8:45 am]

BILLING CODE 5001-06-P